INTERNATIONAL TRADE COMMISSION

[Investigation Nos. 701-TA-658-659 and 731-TA-1538-1542 (Final)]

Aluminum Foil From Armenia, Brazil, Oman, Russia, and Turkey; Determinations

On the basis of the record ¹ developed in the subject investigations, the United States International Trade Commission (“Commission”) determines, pursuant to the Tariff Act of 1930 (“the Act”), that an industry in the United States is materially injured by reason of imports of aluminum foil from Armenia, Brazil, Oman, Russia, and Turkey, provided for in subheadings 7607.11.30, 7607.11.60, 7607.11.90, and 7607.19.60 of the Harmonized Tariff Schedule of the United States, that have been found by the U.S. Department of Commerce (“Commerce”) to be sold in the United States at less than fair value (“LTFV”), and to be subsidized by the governments of Oman and Turkey.

¹ The record is defined in § 207.2(f) of the Commission's Rules of Practice and Procedure (19 CFR 207.2(f)).

Background

The Commission instituted these investigations effective September 29, 2020, following receipt of petitions filed with the Commission and Commerce by the Aluminum Association Trade Enforcement Working Group, Arlington, Virginia and its individual members—Gränges Americas Inc., Franklin, Tennessee; JW Aluminum Company, Daniel Island, South Carolina; and Novelis Corporation, Atlanta, Georgia. The final phase of the investigations was scheduled by the Commission following notification of preliminary determinations by Commerce that imports of aluminum foil from Oman and Turkey were subsidized within the meaning of section 703(b) of the Act (19 U.S.C. 1671b(b)) and imports of aluminum foil from Armenia, Brazil, Oman, Russia, and Turkey were sold at LTFV within the meaning of 733(b) of the Act (19 U.S.C. 1673b(b)). Notice of the scheduling of the final phase of the Commission's investigations and of a public hearing to be held in connection therewith was given by posting copies of the notice in the Office of the Secretary, U.S. International Trade Commission, Washington, DC, and by publishing the notice in the Federal Register on May 25, 2021 (86 FR 28146). In light of the restrictions on access to the Commission building due to the COVID-19 pandemic, the Commission conducted its hearing through written testimony and video conference on September 14, 2021. All persons who requested the opportunity were permitted to participate.

The Commission made these determinations pursuant to §§ 705(b) and 735(b) of the Act (19 U.S.C. 1671d(b) and 19 U.S.C. 1673d(b)). It completed and filed its determinations in these investigations on November 5, 2021. The views of the Commission are contained in USITC Publication 5235 (November 2021), entitled Aluminum Foil from Armenia, Brazil, Oman, Russia, and Turkey: Investigation Nos. 701-TA-658-659 and 731-TA-1538-1542 (Final).

By order of the Commission.
Issued: November 5, 2021.
Lisa Barton,
Secretary to the Commission.

[FR Doc. 2021-24628 Filed 11-10-21; 8:45 am]

BILLING CODE 7020-02-P